DEPARTMENT OF THE INTERIOR

National Park Service

30-Day Notice of Intention To Request Clearance of Collection of Information; Opportunity for Public Comment

AGENCY: Department of the Interior, National Park Service.

ACTION: Notice and request for comments.

SUMMARY: Under the provisions of the Paperwork Reduction Act of 1995 (Pub. L. 104-13, 44 U.S.C., Chapter 3507) and 5 CFR Part 1320, Reporting and Record keeping Requirements, the National Park Service (NPS) invites public comments on an extension of a currently approved collection of information (OMB #1024-0018).

DATES: Public comments on this information Collection Request (ICR) will be accepted on or before March 5, 2009.

ADDRESSES: You may submit comments directly to the Desk Officer for the Department of the Interior (OMB #1024-0018), Office of Information and Regulatory Affairs, OMB, by fax at 202/395-6566, or by electronic mail at oira_docket@omb.eop.gov. Please also mail or hand carry a copy of your comments to Lisa Deline, Managing Editor, National Register of Historic Places, National Park Service, 1201 Eye Street NW., 8th Floor, Washington, DC 20005 or via fax at 202/371-2229.

FOR FURTHER INFORMATION CONTACT: Paul Loether, Chief, National Register of Historic Places and National Historic Landmark Program, 1201 Eye Street, NW. 8TH Floor, Washington, DC 20005 or via fax at 202/371-2229. You are entitled to a copy of the entire ICR package free-of-charge. You may access this ICR at http://www.reginfo.gov/public/.

Comments Received on the 60-Day Federal Register Notice: The NPS published a 60-day Notice to solicit public comments on this ICR in the Federal Register on July 11, 2008 (Vol. 73, No. 134, Page 39984-39985). The comment period closed on September 9, 2008. No public comments were received on this Notice.

SUPPLEMENTARY INFORMATION:

Title: 36 CFR 60 and 63, National Register of Historic Places Registration Form, Continuation Sheet, Multiple Property Documentation Form (aka MPS).

Form(s): NPS 10-900 (Registration Form), 10-900-a (Continuation Sheet), 10-900-b (Multiple Property Documentation Form).

OMB Control Number: 1024-0018.

Type of Request: Extension of a currently approved collection of information.

Expiration Date: 01/31/2009.

Description of Need: The National Historic Preservation Act of 1966 requires the Secretary of the Interior to maintain and expand the National Register of Historic Places, and to establish criteria and guidelines for including properties in the National Register. The National Register of Historic Places Registration Form documents properties nominated for listing in the National Register and demonstrates that they meet the criteria established for inclusion. The documentation is used to assist in preserving and protecting the properties and for heritage education and interpretation.

National Register properties must be considered in the planning for Federal or federally assisted projects. National Register listing is required for eligibility for the federal rehabilitation tax incentives. The primary purpose of the ICR is to nominate properties for listing in the National Register of Historic Places, the official list of the Nation's cultural resources worthy of preservation, which Public Law requires that the Secretary of the Interior maintain and expand. Properties are listed in the National Register upon nomination by State, Federal and Tribal Historic Preservation Officers. The National Register of Historic Places Registration Form documents properties nominated for listing in the National Register and demonstrates that they meet the criteria established for inclusion. The documentation is used to assist in preserving and protecting the properties and for heritage education interpretation. National Register properties and those eligible for listing may be eligible for Federal Rehabilitation tax incentives. The forms provide the historic documentation on which decisions for listing and eligibility are based. The obligation to respond is required to obtain and retain benefits.

Description of Respondents: The affected public are State, tribal, and local governments, businesses, non-profit organizations, and individuals. Nominations to the National Register of Historic Places are voluntary.

Estimated Annual Reporting Burden: 55,560 hours, broken down as follows: 1,262 newly proposed individual and district nominations @36 hrs. each = 45,432; 196 nominations submitted under existing MPS @ 18 hrs. each 3,528; 55 newly proposed MPS @ 120 hrs. each = 6,600.

Estimated Average Burden Hours per Response: Depending on which form is used, the average burden hours per response may vary considerably because of many complex factors. In general, to fulfill minimum program requirements describing the nominated property and demonstrating its eligibility under the criteria, the average burden hours is 36 hours for a newly proposed individual nomination: 18 hours for a nomination proposed under an existing Multiple Property Submission (MPS); and 120 hours for a newly proposed MPS cover document.

Continuation sheets (10-900-a) are used for additional information for both the individual nomination form and the multiple property form, as needed. As such, the calculation of average burden hours per response for the continuation sheets has been included in the average calculations above for the nomination form (10-900) and the multiple property form (10-900-b).

Estimated Average Number of Respondents: 1,513.

Estimated Frequency of Response: 1,513 annually.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that OMB will be able to do so.

Dated: January 27, 2009.
Leonard E. Stowe,
NPS Information Collection Clearance Officer.

[FR Doc. E9-2053 Filed 2-2-09; 8:45 am]

BILLING CODE 4312-52-M